DEPARTMENT OF HOMELAND SECURITY

Coast Guard

33 CFR Part 165

[CGD01-07-064]

RIN 1625-AA00

Safety Zone: Riverfest 2007, Connecticut River, Hartford, CT

AGENCY: Coast Guard, DHS.

ACTION: Temporary final rule.

SUMMARY: The Coast Guard is establishing temporary safety zones for the Riverfest 2007 Fireworks on the Connecticut River off Hartford, CT. The safety zones are necessary to protect the life and property of the maritime community from the hazards posed by the fireworks display. Entry into or movement within the safety zones during the enforcement period is prohibited without approval of the Captain of the Port, Long Island Sound.

DATES: This rule is effective from 8:30 p.m. on July 7, 2007 until 10:30 p.m. on July 8, 2007.

ADDRESSES: Documents indicated in this preamble as being available in the docket, are part of docket CGD01-07-064 and will be available for inspection or copying at Sector Long Island Sound, New Haven, CT, between 9 a.m. and 3 p.m., Monday through Friday, except Federal holidays.

FOR FURTHER INFORMATION CONTACT: Lieutenant D. Miller, Chief, Waterways Management Division, Coast Guard Sector Long Island Sound at (203) 468-4596.

SUPPLEMENTARY INFORMATION:

Regulatory Information

We did not publish a notice of proposed rulemaking (NPRM) for this regulation. Under 5 U.S.C. 553(b)(B), the Coast Guard finds that good cause exists for not publishing an NPRM. The Coast Guard did not receive an Application for Approval of Marine Event for this event in sufficient time, thereby making an NPRM impracticable and contrary to the pubic interest.

Under 5 U.S.C. 553(d)(3), the Coast Guard finds that good cause exists for making this rule effective less than 30 days after publication in the Federal Register. Any delay encountered in this regulation's effective date would be impracticable and contrary to public interest since immediate action is needed to prevent traffic from transiting a portion of the Connecticut River, Hartford, CT and to protect the maritime public from the hazards associated with this fireworks event.

The safety zones should have minimal negative impact on the public and navigation because they will be enforced for a two hour period on a single day and the area closed by the safety zones is minimal, allowing vessels to transit around the zones on the Connecticut River, Hartford, CT.

Background and Purpose

The Riverfest 2007 Fireworks display will take place on the Connecticut River, Hartford, CT from 8:30 p.m. to 10:30 p.m. on July 7, 2007. If the fireworks display is cancelled due to inclement weather, the event will take place from 8:30 p.m. to 10:30 p.m. on July 8, 2007. These safety zones are necessary to protect the life and property of the maritime public from the hazards posed by the fireworks display. They will protect the maritime public by prohibiting entry into or movement within this portion of the Connecticut River one hour prior to, during and one hour after the stated event.

Discussion of Rule

This regulation establishes temporary safety zones on the waters of the Connecticut River, Hartford, CT within a 500-foot radius of each of the two fireworks barges located at approximate positions 41°45′39.93″ N, 072°39′49.14″ W and 41°45′36.06″ N, 072°39′46.03″ W. The temporary safety zones will be outlined by temporary marker buoys installed by the event organizers.

This action is intended to prohibit vessel traffic in a portion of the Connecticut River, Hartford, CT to provide for the protection of life and property of the maritime public. The safety zones will be enforced from 8:30 p.m. until 10:30 p.m. on July 7, 2007, or if the event is postponed due to weather, from 8:30 p.m. to 10:30 p.m. on July 8, 2007. Marine traffic may transit safely outside of the safety zones during the event thereby allowing navigation of the rest of the Connecticut River except for the portion delineated by this rule.

The Captain of the Port anticipates minimal negative impact on vessel traffic due to this event due to the limited area and duration covered by these safety zones. Public notifications will be made prior to the effective period via local notice to mariners and marine information broadcasts.

Regulatory Evaluation

This rule is not a “significant regulatory action” under section 3(f) of Executive Order 12866, Regulatory Planning and Review, and does not require an assessment of potential costs and benefits under section 6(a)(3) of that Order. The Office of Management and Budget has not reviewed it under that Order.

This regulation may have some impact on the public, but the potential impact will be minimized for the following reasons: Vessels will only be excluded from the area of the safety zones for two hours; and vessels will be able to operate in other areas of the Connecticut River, Hartford, CT during the enforcement period.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule may affect the following entities, some of which may be small entities: The owners or operators of vessels intending to transit or anchor in those portions of the Connecticut River covered by the safety zone. For the reasons outlined in the Regulatory Evaluation section above, this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offered to assist small entities in understanding this rule so that they can better evaluate its effects on them and participate in the rulemaking process. If this rule will affect your small business, organization, or governmental jurisdiction and you have questions concerning its provisions please call Lieutenant D. Miller, Chief, Waterways Management Division, Sector Long Island Sound, at (203) 468-4596. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and will not concern an environmental risk to health or risk to safety that may disproportionately affect children.

Indian Tribal Governments

This rule does not have tribal implications under Executive Order 13175, Consultation and Coordination with Indian Tribal Governments, because it will not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of the categorical exclusion under section 2.B.2 of the Instruction. Therefore, this rule is categorically excluded, under figure 2-1, paragraph (34)(g), of the Instruction, from further environmental documentation because this rule establishes a safety zone.

A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226 and 1231; 46 U.S.C. Chapter 701; 50 U.S.C. 191, 195; 33 CFR 1.05-1, 6.04-1, 6.04-6, and 160.5; Pub. L. 107-295, 116 Stat. 2064; Department of Homeland Security Delegation No. 0170.1.

2. Add temporary § 165.T01-064 to read as follows:

§ 165.T01-064 Safety Zone: Riverfest 2007 Fireworks, Connecticut River, Hartford, CT.

(a) Location. The following areas are safety zones:

(1) All navigable waters of the Connecticut River in a 500-foot radius of the fireworks barge located at approximate position 41°45′39.93″ N, 072°39′49.14″ W.

(2) All navigable waters of the Connecticut River in a 500-foot radius of the fireworks barge located at approximate position 41°45′36.06″ N, 072°39′46.03″ W.

(b) Definition. The following definition applies to this section: Designated on-scene patrol personnel, means any commissioned, warrant, and petty officer of the U.S. Coast Guard operating a Coast Guard vessel who has been authorized to act on the behalf of the Captain of the Port, Long Island Sound.

(c) Regulations. (1) The general regulations contained in 33 CFR 165.23 apply.

(2) In accordance with the general regulations in § 165.23 of this part, entry into or movement within these zones is prohibited unless authorized by the Captain of the Port, Long Island Sound.

(3) All persons and vessels shall comply with the Coast Guard Captain of the Port, Long Island Sound or designated on-scene patrol personnel.

(4) Upon being hailed by a U.S. Coast Guard vessel by siren, radio, flashing light or other means, the operator of the vessel shall proceed as directed.

(5) Persons and vessels may request permission to enter the zone on VHF-16 or via telephone at (203) 468-4401.

(d) Enforcement period. This section will be enforced from 8:30 p.m. to 10:30 p.m. on Saturday, July 7, 2007. If the fireworks display is cancelled due to inclement weather, it will be enforced from 8:30 p.m. to 10:30 p.m. on Sunday, July 8, 2007.

Dated: June 5, 2007.
J.J. Plunkett,
Commander, U.S. Coast Guard, Captain of the Port, Long Island Sound, Acting.

[FR Doc. E7-11881 Filed 6-19-07; 8:45 am]

BILLING CODE 4910-15-P